DEPARTMENT OF TRANSPORTATION

Federal Aviation Administration

Seventh Meeting—Special Committee 222: Inmarsat Aeronautical Mobile Satellite (Route) Services

AGENCY: Federal Aviation Administration (FAA), DOT.

ACTION: Notice of RTCA Special Committee 222: Inmarsat Aeronautical Mobile Satellite (Route) Services meeting.

SUMMARY: The FAA is issuing this notice to advise the public of a meeting of RTCA Special Committee 222: Inmarsat Aeronautical Mobile Satellite (Route) Services.

DATES: The meeting will be held November 3-5, 2010, Wednesday, November 3, 2010 from 1:30 p.m.-4:30 p.m., Thursday, November 4, 9 a.m.-4:30 p.m., and Friday, November 5, 9-11:30 a.m.. Note that this meeting will conclude on Thursday if all the business has been concluded.

ADDRESSES: The meeting will be held at RTCA Headquarters, 1828 L. Street, NW., Suite 805, Washington, DC, 20036.

Dress: Business Casual.

FOR FURTHER INFORMATION CONTACT: RTCA Secretariat, 1828 L Street, NW., Suite 805, Washington, DC, 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 222: Inmarsat Aeronautical Mobile Satellite (Route) Services. The agenda will include:

Agenda

• Opening Plenary (Introductions and Opening Remarks).

• Review and Approval of SC-222/WP-051, Summary for the 6th Meeting of Special Committee 222 held at ARINC on August 3, 2010.

• Review and Approval of the Agenda for the 7th Meeting of SC-222, WP-053 (this document).

• Old Business.

• Review of/reports for the currently active Action Items regarding SBB Safety issues per the minutes of the 6th Plenary Meeting.

• Release MASPS in Mid-August.

• Create a summary table for interference from ATCt.

• Confirm date and location for a November meeting of SC-222.

• Working Papers and Discussions regarding SC-222 issues.

• Status of ATCt filter development activities with ARINC AEEC discussions on this issue.

• Discussion on new SBB documentation approach as presented in WP-047 at August meeting.

• Status of LightSquared ATCt development and deployment.

• Review, comment, discuss draft WP-052 DO-3xx SBB Safety Draft 1 (This action is expected to take most of Wednesday and Thursday).

• Review, comment, discuss draft of Appendix B, ATCt Interface Model.

• Additional working papers as may be provided in advance of the meeting.

• Additional working papers as may be provided at the meeting.

• Other Business.

• FAA request for information concerning spectrum usage.

• Revision to Terms of Reference, if necessary after Agenda Item 5b.

• Review of Assignments and Action Items.

• Date and Location for the 8th Meeting of SC-222.

• Adjourn (no later than 11:30 a.m. Friday).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on October 6, 2010.
Robert L. Bostiga,
RTCA Advisory Committee.

[FR Doc. 2010-25981 Filed 10-14-10; 8:45 am]

BILLING CODE 4910-13-P